DEPARTMENT OF COMMERCE

National Oceanic and Atmospheric Administration

RIN 0648-XD404

Pacific Island Fisheries; Marine Conservation Plan for Pacific Insular Areas; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for Pacific Insular Areas other than American Samoa, Guam, and the Northern Mariana Islands.

DATES: This agency decision is effective from August 4, 2014, through August 3, 2017.

ADDRESSES: You may obtain a copy of the MCP, identified by NOAA-NMFS-2014-0092, from the Federal e-Rulemaking Portal, www.regulations.gov/#!docketDetail;D=NOAA-NMFS-2014-0092, or from the Western Pacific Fishery Management Council (Council), 1164 Bishop St., Suite 1400, Honolulu, HI 96813, 808-522-8220, www.wpcouncil.org.

FOR FURTHER INFORMATION CONTACT: Jarad Makaiau, Sustainable Fisheries, NMFS Pacific Islands Regional Office, 808-725-5176.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to any Pacific Insular Area other than American Samoa, Guam or the Northern Mariana Islands, that is, in the EEZ around the Pacific remote island areas (PRIA). The PRIA are Baker Island, Howland Island, Jarvis Island, Johnston Atoll, Kingman Reef, Midway Island, Wake Island, and Palmyra Atoll. Before entering into a PIAFA for the PRIA, the Council must develop a 3-year MCP providing details on uses for any funds collected by the Secretary under the PIAFA.

The Magnuson-Stevens Act requires any payments received under a PIAFA, and any funds or contributions received in support of conservation and management objectives for the PRIA, to be deposited into the Western Pacific Sustainable Fisheries Fund (Fund) for use by the Council. Additionally, amounts received by the Secretary attributable to fines and penalties imposed under the Magnuson-Stevens Act for violations by foreign vessels occurring within the EEZ off any PRIA are also deposited into the Fund for use by the Council.

An MCP must be consistent with the Council's fishery ecosystem plans, must identify conservation and management objectives (including criteria for determining when such objectives have been met), and must prioritize planned marine conservation projects. Although no foreign fishing is being considered at this time, at its 160th meeting held June 24-27, 2014, the Council approved an MCP for Pacific Insular Areas other than American Samoa, Guam, and the Northern Mariana Islands. On July 7, 2014, the Council submitted the MCP to NMFS for review and approval.

The MCP contains five conservation and management objectives, listed below. Please refer to the MCP for planned projects and activities designed to meet each objective, the evaluative criteria, and priority rankings.

MCP Objectives

1. Support quality research and monitoring to obtain the most complete scientific information available to assess and manage fisheries within an ecosystem approach.

2. Conduct education and outreach to foster good stewardship principles and broad and direct public participation in the Council's decision-making process.

3. Promote regional cooperation to manage domestic and international fisheries.

4. Encourage development of technologies and methods to achieve the most effective level of monitoring, control and surveillance, and to ensure safety at sea.

5. Support Western Pacific community demonstration projects and Western Pacific Community Development Program to promote participation and access to fisheries for eligible communities.

The MCP also identifies additional objectives and activities consistent with the Hawaii Archipelago FEP and Pelagics FEP. Section 204(e)(7)(C) of the Magnuson-Stevens Act authorizes the Council to use the Fund to meet conservation and management objectives in the State of Hawaii.

This notice announces that NMFS has determined that the MCP satisfies the requirements of the Magnuson-Stevens Act and approves the MCP for the 3-year period from August 4, 2014, through August 3, 2017. This MCP supersedes the one approved for the period August 4, 2011 through August 3, 2014 (76 FR 50183, August 12, 2011).

Dated: July 28, 2014.
James P. Burgess,
Acting Director, Office of Sustainable Fisheries, National Marine Fisheries Service.

[FR Doc. 2014-18220 Filed 7-31-14; 8:45 am]

BILLING CODE 3510-22-P